DEPARTMENT OF TRANSPORTATION

Federal Highway Administration

Environmental Impact Statement; Cole County, MO

AGENCY: Federal Highway Administration (FHWA), DOT.

ACTION: Notice of intent.

SUMMARY: The FHWA is issuing this notice to advise the public that an environmental impact statement (EIS) will be prepared for proposed improvements to U.S. 50/U.S. 63, (Rex Whitton Expressway), in Jefferson City, Cole County, Missouri.

FOR FURTHER INFORMATION CONTACT: Ms. Peggy Casey, Environmental Projects Engineer, FHWA Division Office, 3220 West Edgewood, Suite H, Jefferson City, MO 65109, Telephone: (573) 638-2620 or Mr. Kevin Keith, Chief Engineer, Missouri Department of Transportation, P.O. Box 270, Jefferson City, MO 65102, Telephone: (573) 751-2803.

SUPPLEMENTARY INFORMATION: The FHWA, in cooperation with the Missouri Department of Transportation (MoDOT), will prepare an EIS for a proposal to upgrade the existing U.S. 50/U.S. 63 (Rex Whitton Expressway) facility. MoDOT completed a Problem Definition Study for the study area in April 2006. The study identified issues and potential concepts to address the issues.

The proposed action will accomplish several goals: (1) Provide sufficient roadway capacity and improve traffic operations, (2) improve traffic safety, (3) address geometric and structural deficiencies, (4) and improve access to major activity centers and encourage development.

The proposed project study area is defined as the area in Jefferson City from just east of the U.S. 50/U.S. 54 Tri-level interchange to the Eastland Drive interchange for an approximate length of 3 miles; and from 300 feet south of U.S. 50/U.S. 63 to McCarty Street on the north. An additional area to the north of McCarty will be studied to address access to the Missouri State Prison Redevelopment site. The width of the study area varies from 400 to 800 feet.

Known potential impacts include access changes, and residential, commercial and institutional acquisitions/relocations. Properties eligible for the National Register of Historic Places which are protected by Section 4(f) of the Department of Transportation Act of 1966 may also be impacted. Other potential Section 4(f) impacts are to the East Miller Park, the Lincoln University Recreation Park, and the Lincoln University Tennis Courts. The Lincoln University Tennis Courts are also protected by the Land and Water Conservation Fund Act requirements. A floodplain development permit from the State Emergency Management Agency may be required.

It is anticipated that the following will be invited to be participating agencies on this project: The U.S. Environmental Protection Agency, the U.S. Department of Housing and Urban Development, the U.S. Army Corps of Engineers, the U.S. Fish and Wildlife Service, the State Emergency Management Agency, the Missouri Department of Conservation, the Missouri Department of Natural Resources, and the State Historic Preservation Office.

Alternatives under consideration include: (1) No build, (2) build alternatives, and (3) transportation management options. The Problem Definition Study looked at a number of alternatives but made no recommendation. The EIS will look at the work done in this study as a starting point and use this information in developing and evaluating the reasonable alternatives.

To date, preliminary coordination has occurred with local officials and other interested parties. A public meeting and two stakeholder meetings were held during the Problem Definition Study. As part of the scoping process, an interagency coordination meeting will be held August 14, 2007 with federal, state, and local agencies. In addition, public information meetings and further meetings for community officials will be held to solicit public and agency input on the project coordination plan, the purpose and need for the project, and the reasonable range of alternatives. A location public hearing will be held to present the findings of the Draft EIS. Public notice will be given announcing the time and place of all public meetings and the hearing. The Draft EIS will be available for public and agency review and comment prior to the public hearing.

To ensure that the full range of issues related to this proposed action are addressed and all significant issues are identified, comments and suggestions are invited from all interested parties. Comments and questions concerning this proposed action should be directed to FHWA or MoDOT at the addresses provided above.

(Catalog of Federal Domestic Assistance Program Number 20.205, Highway Planning and Construction. The regulations implementing Executive Order 12372 regarding intergovernmental consultation on Federal programs and activities apply to this program.)

Issued on: July 19, 2007.
Peggy J. Casey,
Environmental Project Engineer, Jefferson City.

[FR Doc. E7-14572 Filed 7-26-07; 8:45 am]

BILLING CODE 4910-22-P